DEPARTMENT OF COMMERCE

National Oceanic and Atmospheric Administration

[I.D. 041405A]

North Pacific Fishery Management Council; Notice of Public Meeting

AGENCY: National Marine Fisheries Service (NMFS), National Oceanic and Atmospheric Administration (NOAA), Commerce.

ACTION: Notice of public meetings.

SUMMARY: The North Pacific Fishery Management Council (Council) Observer Advisory Committee will meet at the Alaska Fishery Science Center, Room 1055.

DATES: May 12-13, 2005 from 8:30 am- at the Alaska Fishery Science Center, 7600 Sand Point Way NE, Bldg 4, Room 1055, Seattle, WA 98115.

ADDRESSES: Alaska Fishery Science Center, 7600 Sand Point Way NE, Bldg 4, Room 1055, Seattle, WA 98115.

Council address: North Pacific Fishery Management Council, 605 W. 4th Ave., Suite 306, Anchorage, AK 99501-2252.

FOR FURTHER INFORMATION CONTACT: Nicole Kimball, Council staff, Phone: 907-271-2809.

SUPPLEMENTARY INFORMATION: The Committee will review a preliminary draft of an analysis to restructure the observer deployment and funding mechanism of the North Pacific Groundfish Observer Program.

Special Accommodations

These meetings are physically accessible to people with disabilities. Requests for sign language interpretation or other auxiliary aids should be directed to Gail Bendixen at 907-271-2809 at least 7 working days prior to the meeting date.

April 14, 2005.
Emily Menashes,
Acting Director, Office of Sustainable Fisheries, National Marine Fisheries Service.

[FR Doc. E5-1844 Filed 4-18-05; 8:45 am]

BILLING CODE 3510-22-S